DEPARTMENT OF HOMELAND SECURITY

Coast Guard

33 CFR Part 117

[Docket No. USCG-2015-0962]

Drawbridge Operation Regulation; Oakland Inner Harbor Tidal Canal, Alameda, CA

AGENCY: Coast Guard, DHS.

ACTION: Notice of deviation from drawbridge regulation.

SUMMARY: The Coast Guard has issued a temporary deviation from the operating schedule that governs the High Street Drawbridge across the Oakland Inner Harbor Tidal Canal, mile 6.0, at Alameda, CA. The deviation is necessary to allow the bridge owner to replace the center span lock. This deviation allows the bridge to remain in the closed-to-navigation position during the deviation period.

DATES: This deviation is effective without actual notice from November 5, 2015 through 6:30 p.m. on November 25, 2015. For the purpose of enforcement, actual notice will be used from 2:30 p.m. on October 21, 2015 until November 5, 2015.

ADDRESSES: The docket for this deviation, [USCG-2015-0962] is available at http://www.regulations.gov.

FOR FURTHER INFORMATION CONTACT: If you have questions on this temporary deviation, call or email David H. Sulouff, Chief, Bridge Section, Eleventh Coast Guard District; telephone 510-437-3516, email David.H.Sulouff@uscg.mil.

SUPPLEMENTARY INFORMATION: Alameda County Public Works Agency has requested a temporary change to the operation of the High Street Drawbridge, mile 6.0, over Oakland Inner Harbor Tidal Canal, at Alameda, CA. The bridge provides a vertical clearance of 16 feet above Mean High Water in the closed-to-navigation position. The bridge currently operates under 33 CFR 117.181. Navigation on the waterway is commercial and recreational.

The bridge will be secured in the closed-to-navigation position, October 26, 2015 through November 25, 2015, Monday through Friday, 9:30 a.m. to 6:30 p.m., due to replacement of the center span lock. During nights and weekends, the bridge will be able to open upon 2 hours advance notice with single leaf openings. During working hours a 15-foot wide scaffold at mid-channel will reduced vertical clearance by 9 feet. This temporary deviation has been coordinated with the waterway users. No objections to the proposed temporary deviation were raised.

Vessels able to pass through the bridge in the closed position may do so at anytime. The bridge will not be able to open for emergencies and there is an alternate route for shallow draft vessels through San Leandro Bay. The Coast Guard will also inform the users of the waterway by our Local and Broadcast Notices to Mariners of the change in operating schedule for the bridge so they can arrange their transits to minimize any impact caused by the temporary deviation.

In accordance with 33 CFR 117.35(e), the drawbridge must return to its regular operating schedule immediately at the end of the effective period of this temporary deviation. This deviation from the operating regulations is authorized under 33 CFR 117.35.

Dated: October 21, 2015.
D.H. Sulouff,
District Bridge Chief, Eleventh Coast Guard District.

[FR Doc. 2015-28292 Filed 11-4-15; 8:45 am]

BILLING CODE 9110-04-P